DEPARTMENT OF JUSTICE

Notice of Lodging of Consent Decree Under the Comprehensive Environmental Response, Compensation and Liability Act

Notice is hereby given that on September 11, 2003, a proposed Consent Decree in United States v. Bayer CropScience, Inc., Civil Action No. 5:03CV00080 was lodged with the United States District Court for the Western District of Virginia.

In this action the United States sought to recover costs incurred in responding to the release or threatened release of hazardous substances into the environment from the Stauffer Chemical Company Superfund Site, located in Warren County, Virginia, near the town of Bentonville. The Consent Decree will recover five hundred fifty-seven thousand dollars ($557,000) in past response costs from bayer CropScience, Inc., successor-in-interest to Stauffer Chemical Company. In exchange for this payment, Bayer CropScience, Inc. will receive a release from liability, subject to certain conditions, for response costs incurred by the United States proper to the lodging of this Consent Decree. In addition, Bayer CropScience, Inc. will receive protection from contribution actions for recovery of past response costs incurred prior to the lodging of this Consent Decree.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Bayer CropScience, Inc., D.J. Ref. 90-11-2-07910.

The Consent Decree may be examined at the Office of the United States Attorney, 105 Franklin Street, Suite 1, Roanoke, Virginia, and at U.S. EPA Region III, 1650 Arch Street, Philadelphia, Pennsylvania. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $5.25 (25 cents per page reproduction cost) payable to the U.S. Treasury.

Robert Brook,
Assistant Chief, Environmental Enforcement Section, Environment and Natural Resources Division.

[FR Doc. 03-24302 Filed 9-24-03; 8:45 am]

BILLING CODE 4410-15-M